DEPARTMENT OF HEALTH AND HUMAN SERVICES

Agency for Toxic Substances and Disease Registry

[Program Announcement 01050]

Program to Build Capacity to Conduct Environmental Health Education Activities Related to Iodine-131; Notice of Availability of Funds.

A. Purpose

The Agency for Toxic Substances and Disease Registry (ATSDR) announces the availability of fiscal year (FY) 2001 funds for a cooperative agreement program to Build Capacity to Conduct Environmental Health Education Activities. This program addresses the “Healthy People 2010” areas of Educational and Community-Based Programs; Environmental Health; and Maternal, Infant, and Child Health.

The purpose of the program is to develop, promote, and disseminate environmental health education within communities that are located near Department of Energy (DoE) sites where Iodine-131 (I-131) is identified as a contaminant of concern. The program should focus particular emphases on providing environmental health education related to I-131 to groups such as healthcare providers, public health officials, community members, and other interested parties who live in communities near DoE sites where I-131 is a contaminant of concern.

B. Eligible Applicants

Applications may be submitted by public and private nonprofit organizations and by governments and their agencies; that is, universities, colleges, research institutions, hospitals, other public and private nonprofit organizations, state and local governments or their bona fide agents, and federally recognized Indian tribal governments, Indian tribes, or Indian tribal organizations that provide environmental health education to communities. Note: Public Law 104-65 states that an organization described in section 501(c)(4) of the Internal Revenue Code of 1986 that engages in lobbying activities is not eligible to receive Federal funds constituting an award, grant, cooperative agreement, contract, loan, or any other form.

C. Availability of Funds

Approximately $200,000 is available in FY 2001 to fund approximately 1-2 awards. It is expected that the average award will be $100,000, ranging from $50,000 to $150,000. It is expected that the awards will begin on or about September 30, 2001, and will be made for a 12-month budget period within a project period of up to five years. Funding estimates may change.

Continuation awards within an approved project period will be made on the basis of satisfactory progress as evidenced by required reports and the availability of funds.

Use of Funds

Funds may be expended for reasonable program purposes, such as personnel, travel, supplies and services, including contractual services. ATSDR funding is generally not to be used for the purchase of furniture or equipment. Any equipment purchased will be returned to ATSDR at the end of the funding period. The direct and primary recipient in a cooperative agreement program must perform a substantive role in carrying out project activities and not merely serve as a conduit for an award to another party or provide funds to an ineligible party.

D. Program Requirements

In conducting activities to achieve the purpose of this program, the recipient will be responsible for the activities under 1. (Recipient Activities), and ATSDR will be responsible for the activities listed under 2. (ATSDR Activities).

1. Recipient Activities

a. Develop and implement an environmental health education program for Iodine 131 (I-131). Special efforts should be made to closely coordinate the educational efforts with federal agencies such as the National Cancer Institute (NCI) and others who are working to address I-131 issues at DoE sites.

b. Develop environmental health education materials and programs related to I-131 for reference and use by community residents and other interested parties.

c. Distribute environmental health materials, including the ATSDR I-131 Case Study in Environmental Medicine, nationwide to health officials, healthcare providers, and other interested parties. Particular interest should be in communities that are located near DoE facilities that have I-131 as a contaminant of concern.

d. Provide information regarding the health impacts of hazardous substances, particularly I-131 to state and local health officials, healthcare providers, and other interested parties around DoE sites throughout the United States. Activities should include sharing information about the unique vulnerabilities and special needs of children.

e. Develop health education programs and materials, in collaboration with health officials, healthcare providers, and other interested parties for residents in communities who live near DoE sites.

f. Gain access to healthcare providers, physicians, nurses, and other practitioners, local, state, and federal public health officials, community groups, and educational institutions such as colleges and universities for the purposes of conducting I-131 health education. Specific efforts should be made to reach members of these groups who live or practice near DoE facilities where I-131 is a contaminant of concern.

g. Develop and maintain a database that includes data such as contact information to contact participants for training sessions.

h. Evaluate each of the implemented environmental health education activities and the impact of the overall program.

2. ATSDR Activities

a. Provide technical assistance in developing environmental health education materials and activities.

b. Provide information, instructional resources, technical assistance and collaboration for National Priorities List (NPL) site-specific activities and materials.

c. Provide assistance in establishing communication and resource networks between recipients and groups such as other federal agencies; state and local health departments; tribal governments; non-governmental environmental and health professional organizations; and academic, medical, and clinical associations.

d. Assist in the development of the evaluation plans, such as providing technical assistance in the establishment of measurable objectives and evaluation of activities.

E. Application Content

Use the information in the Program Requirements, Other Requirements, and Evaluation Criteria sections to develop the application content. Your application will be evaluated on the criteria listed, so it is important to follow them in laying out your program plan. The narrative should be no more than 25 double-spaced pages (excluding appendices), printed on one side, with one inch margins, and unreduced font.

F. Submission and Deadline

Application

Submit the original and two copies of PHS 5161-1 [OMB Number 0920-0428]. Forms are available in the application kit. On or before May 30, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be reviewed and evaluated individually against the following criteria by an ATSDR-convened objective review panel.

1. Proposed Program—40 percent

a. Ability to develop environmental health education materials and messages for distribution to target audiences; address specific environmental health concerns, plan, conduct, and evaluate environmental health education or training activities; and collaborate effectively with a variety of public health partners including other federal agencies who are working to address I-131 issues at DoE sites.

b. Documented access or the ability to gain access to healthcare providers such as physicians, nurses, and other practitioners, local, state, and federal public health officials and practitioners, community groups, and educational institutions such as colleges and universities. Special emphasis should be placed on groups who live or practice near DoE facilities throughout the United States where I-131 is identified as a contaminant of concern.

c. Clearly stated understanding of the environmental public health problems to be addressed, including the proximity of DoE sites and any special risks to children as a susceptible population.

d. Clear and reasonable environmental public health goals and clearly stated project objectives which are realistic, measurable, and related to program requirements.

e. Ability to identify specific target audiences and their environmental health education needs.

f. Specificity and feasability of proposed time line for implementing project activities.

2. Proposed Personnel—20 percent

a. Ability of the applicant to provide adequate program staff and support staff, including any proposed consultants or contractors.

b. Experience of proposed staff in developing environmental health education materials, implementing environmental health education activities, and conducting program evaluation related to health education. Special emphasis should be placed on experience with I-131 information.

3. Capability—20 percent

a. Appropriateness of the health education activities for the proposed target groups.

b. Plans for collaborative efforts and appropriate letters of support.

4. Evaluation Plan—20 percent

a. Extent to which the evaluation plan includes strategies and methods to measure program processes and outcomes of program activities, such as changes in participants' knowledge, attitudes, and behaviors.

b. Extent to which the evaluation plan includes specific approaches and methods to measure overall program effectiveness and impacts, such as achievement of stated public health goals and effect of the program on stated public health problem.

5. Budget—(not scored)

The extent to which the proposed budget is reasonable, clearly justified with a budget narrative, and consistent with the intended use of funds.

H. Other Requirements

Technical Reporting Requirements

Provide CDC/ATSDR with an original plus two copies of

1.Semiannual progress reports;

2. Financial status report, no more than 90 days after the end of the budget period; and

3. Final financial and performance reports, no more than 90 days after the end of the project period. Send all reports to the Grants Management Specialist identified in the “Where to Obtain Additional Information” section of this announcement.

The following additional requirements are applicable to this program. For a complete description of each, see Attachment I in the application kit.

AR-7 Executive Order 12372 Review

AR-8 Public Health System Reporting Requirements

AR-9 Paperwork Reduction Act Requirements

AR-10 Smoke-Free Workplace Requirements

AR-11 Healthy People 2010

AR-12 Lobbying Restrictions

AR-18 Cost Recovery—ATSDR

AR-19 Third Party Agreements—ATSDR

I. Authority and Catalog of Federal Domestic Assistance Number

This program is authorized under section 104 (i) (14) and (15) of the Comprehensive Environmental Response, Compensation, and Liability Act of 1980 (CERCLA), as amended by the Superfund Amendments and Reauthorization Act of 1986 (SARA) [42 U.S.C. 9604 (i) (14), (15)]. The Catalog of Federal Domestic Assistance Number is 93.161.

J. Where to Obtain Additional Information

This and other CDC/ATSDR announcements can be found on the CDC home page Internet address— http://www.cdc.gov. Click on “Funding” then “Grants and Cooperative Agreements.” To receive additional written information and to request an application kit, call 1-888-GRANTS4 (1-888 472-6874). You will be asked to leave your name and address and will be instructed to identify the Announcement number of interest.

If you have questions after reviewing the contents of all the documents, business management technical assistance may be obtained from:

Nelda Godfrey, Grants Management Specialist, Grants Management Branch, Procurement and Grants Office, Centers for Disease Control and Prevention, Room 3000, 2920 Brandywine Road, Atlanta, GA 30341-4146, Telephone number: 770-488-2722, Email address: nag@cdc.gov

For program technical assistance, contact: Theresa NeSmith, Health Education Specialist, 1600, Clifton Road, Mail Stop-E-42, Atlanta, GA 30333, Telephone number: 404-639-6230, Email address: tbn8@cdc.gov

Dated: April 6, 2001.
Donna Garland,
Acting Director, Office of Policy and External Affairs, Agency for Toxic Substances and Disease Registry.

[FR Doc. 01-9069 Filed 4-11-01; 8:45 am]

BILLING CODE 4163-70-P